DEPARTMENT OF TRANSPORTATION

Federal Railroad Administration

[Docket Number FRA-2025-0053]

Notice of Application for Approval of Discontinuance or Modification of a Railroad Signal System

AGENCY: Federal Railroad Administration (FRA), Department of Transportation (DOT).

ACTION: Notice.

SUMMARY: This document provides the public notice that Northern Illinois Commuter Railroad Corporation (Metra) petitioned FRA seeking approval to discontinue or modify a signal system.

DATES: FRA must receive comments on the petition by August 11, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Scott Johnson, Railroad Safety Specialist, FRA Signal, Train Control, and Crossings Division, telephone: 406-210-3608, email: scott.j.johnson@dot.gov.

SUPPLEMENTARY INFORMATION: Under part 235 of title 49 Code of Federal Regulations (CFR) and 49 U.S.C. 20502(a), this document provides the public notice that by letter dated April 14, 2025, Metra petitioned FRA seeking approval to discontinue or modify a signal system.¹ FRA assigned the petition Docket Number FRA-2025-0053.

¹ Metra additionally requested relief from 49 CFR 236.566, Locomotive of each train operating in train stop, train control or cab signal territory; equipped.

Specifically, Metra requests to discontinue the cab signal system (CSS) on the Rock Island District on Tracks No. 1 and No. 2 from milepost (MP) 15.58 to 39.03. In its petition, Metra states that the concurrent use of automatic cab signals (ACS) and positive train control (PTC), which are not integrated into the locomotives, “could confuse and distract the train crew due to differences in the content of their displays, audible and visual alerts provided, and required acknowledgement protocols.” In addition, Metra states that the reliability of PTC will be enhanced if the ACS equipment is removed, and there are no other ACS territories adjacent to the subject area. To support its request, Metra notes that it has not identified any scenarios where PTC, in lieu of ACS, will result in a reduction of safety.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by August 11, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12944 Filed 7-10-25; 8:45 am]

BILLING CODE 4910-06-P